ENVIRONMENTAL PROTECTION AGENCY

[ER-FRL-8591-1]

Environmental Impacts Statements; Notice of Availability

Responsible Agency: Office of Federal Activities, General Information (202) 564-1399 or http://www.epa.gov/compliance/nepa/.

Weekly receipt of Environmental Impact Statements

Filed 02/23/2009 Through 02/27/2009 Pursuant to 40 CFR 1506.9.

EIS No. 20090052, Draft EIS, NRS, IA, Clarke County Water Supply Project, To Construct a Multiple-Purpose Structure that Provides for Rural Water Supply and Water Based Recreational Opportunities, Clarke County, IA, Comment Period Ends: 04/20/2009, Contact: Richard Sim 515-284-6655.

EIS No. 20090053, Final Supplement, COE, MS, Gulfport Harbor Navigation Channel Project, To Evaluate Proposed Construction of Authorized Improvements to the Gulfport Harbor, Harrison County, MS, Wait Period Ends: 04/06/2009, Contact: Jennifer Jacobson 251-690-2724.

EIS No. 20090054, Draft EIS, AFS, NV, Stanislaus National Forest Motorized Travel Management (17305) Plan, Implementation, Stanislaus National Forest, CA, Comment Period Ends: 05/05/2009, Contact: Sue Warren 209-532-3671 Ext. 321.

EIS No. 20090055, Draft EIS, AFS/BLM, CO, Gunnison Basin Federal Lands Travel Management Project, To Address Travel Management on Federal Lands within the Upper Gunnison Basin and North Fork Valley, Implementation, Gunnison, Delta, Hinsdale and Saguache Counties, CO, Comment Period Ends: 06/03/2009, Contact: Gary S. Shellhorn 970-874-6666.

The above EIS is Joint Lead Agencies with the U.S. Department of Interior's Bureau of Land Management.

EIS No. 20090056, Third Draft Supplement, TPT, CA, Presidio Trust Management Plan (PTMP), Updated Information on the Preferred Alternative for the Main Post District of the Presidio of San Francisco, Implementation, City and County of San Francisco, CA, Comment Period Ends: 04/20/2009, Contact: John Pelka 415-561-4183.

EIS No. 20090057, Draft EIS, AFS, 00, Wallowa-Whitman National Forest Invasive Plants Treatment Project, To Protect Native Vegetation by Controlling, Containing, or Eradicating Invasive Plant, Wallowa, Baker, Malheur and Grant Counties , OR and Adams and Nez Perce Counties, ID , Comment Period Ends: 04/20/2009, Contact: Gene Yates 541-523-1390.

EIS No. 20090058, Draft EIS, AFS, MT, Miller West Fisher Project, Proposes Land Management Activities, including Timber Harvest, Access Management, Road Storage and Decommissioning, Prescribed Burning and Precommercial Thinning, Miller Creek, West Fisher Creek and the Silver Butte Fisher River, Libby Ranger District, Kootenai National Forest, Lincoln County, MT, Comment Period Ends: 04/20/2009, Contact: Leslie McDougall 406-283-7568.

EIS No. 20090059, Final EIS, NOA, 00, PROGRAMMATIC—Marine Mammal Health and Stranding Response Program (MMHSRP), Day-to-Day Operation on Stranding, Response, Rehabilitation, Release, and Disentanglement Activities, Wait Period Ends: 04/06/2009, Contact: David Cottingham 301-713-2322.

Amended Notices

EIS No. 20080389, Second Draft Supplement, AFS, ID, Southwest Idaho Ecogroup Land and Resource Management Plan, Provide Additional Information to Reanalyzes the Effects of Current and Proposed Management on Rock Mountain Bighorn Sheep Viability in the Payette National Forest 2003 FEIS, Boise National Forest, Payette National Forest and Sawtooth National Forest, Forest Plan Revision, Implementation, Several Counties, ID; Malhaur County, OR and Box Elder County, UT, Comment Period Ends: 03/16/2009, Contact: Patricia Soucek 208-634-0812 Revision to FR Notice Published 10/03/2008: Extend the comment from 01/02/2009 to 03/016/2009.

EIS No. 20090048, Draft EIS, AFS, MT, Montanore Project, Proposes to Construct a Copper and Silver Underground Mine and Associated Facilities, Including a New Transmission Line, Plan-of-Operation Permit, Kootenai National Forest, Sanders County, MT, Comment Period Ends: 05/28/2009, Contact: Bobbie Lacklen 406-283-7681.

Revision to FR Notice Published 02/27/2009: Correction to Comment Period from 04/13/2009 to 05/28/2009.

Dated: March 3, 2009.
Robert W. Hargrove,
Director, NEPA Compliance Division, Office of Federal Activities.

[FR Doc. E9-4797 Filed 3-5-09; 8:45 am]

BILLING CODE 6560-50-P